DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by October 20, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Foreign Agricultural Service

Title: International Agricultural Education Fellowship Program.

OMB Control Number: 0551-New.

Summary of Collection: The International Agricultural Education Fellowship Program (IAEFP) is authorized by the Agriculture Improvement Act of 2018, Public Law 115-334, sec. 3307, 7 U.S.C. 3295 and the National Agricultural Research, Extension, and Teaching Policy Act of 1977, Public Law 95-113, as amended, 7 U.S.C. 3291 and 3319a.

Established in 2018, IAEFP has provided fellowships to eligible U.S. citizens to assist developing countries in establishing school-based agricultural education and youth extension programs. The primary purpose for this information collection is to implement the International Agricultural Education Fellowship Program (IAEFP). The intention of the IAEFP is to develop globally minded United States agriculturalists with experience living abroad, focus on meeting the food and fiber needs of the domestic population of eligible countries, and strengthen and enhance trade linkages between eligible countries and the United States agricultural industry.

Need and Use of the Information: Under the International Agricultural Education Fellowship Program, the information collected in response to solicitations for grant applications will be used by FAS to evaluate applications in order to issue grants to applicants most suited for fulfilling the mission of the program.

Description of Respondents: Domestic private voluntary organizations, cooperatives, domestic nonprofit agricultural organizations or cooperatives, domestic nongovernmental organizations or other domestic private entities.

Number of Respondents: 16.

Frequency of Responses: Reporting; Annually; Semi-annually.

Total Burden Hours: 3,144.

Foreign Agricultural Service

Title: Scientific Cooperation Research Program.

OMB Control Number: 0551-New.

Summary of Collection: The Scientific Cooperation Research Program (SCRP) is authorized by the National Agricultural Research, Extension, and Teaching Policy Act of 1977, Public Law 95-113, as amended, 7 U.S.C. 3291 and 3319a.

SCRP supports fellows and scientific corporations in joint research, extension, and education projects between U.S. researchers and researchers from selected emerging market economies. The projects address issues including agricultural trade and market access, climate-smart agriculture, animal and plant health, biotechnology, food safety and security, and sustainable natural resource management. Since 1980, the program has supported hundreds of projects, enhanced technical skills of agricultural professionals, and helped beneficiary countries to be more competitive consumers of U.S. agricultural products. The primary goals of SCRP are to support applied research, extension and education that create practical solutions to challenges faced by small farmers and build regional and global trade capacities in partner countries. This develops in-country expertise to build regional and international trade capacities in accordance with international rules and regulations.

Need and Use of the Information: The information collected under the Scientific Cooperation Research Program, will be used by FAS to evaluate applications to determine whether participants meet the eligibility requirements to be a recipient of grant funds.

Description of Respondents: State cooperative institutions or other colleges and universities.

Number of Respondents: 40.

Frequency of Responses: Reporting: Annually.

Total Burden Hours: 4,544.

Ruth Brown,
Departmental Information Collection Clearance Officer.

[FR Doc. 2023-20330 Filed 9-19-23; 8:45 am]

BILLING CODE 3410-10-P